DEPARTMENT OF TRANSPORTATION

Federal Aviation Administration

14 CFR Part 39

[Docket No. 99-NM-247-AD; Amendment 39-11542; AD 2000-02-24]

RIN 2120-AA64

Airworthiness Directives; Airbus Model A300, A310, and A300-600 Series Airplanes

AGENCY: Federal Aviation Administration, DOT.

ACTION: Final rule.

SUMMARY: This amendment adopts a new airworthiness directive (AD), applicable to certain Airbus Model A300, A310, and A300-600 series airplanes, that requires either replacement of the spring rod assemblies of the rudder servo controls with improved spring rod assemblies; or modification of the existing spring rod assemblies. For certain airplanes, this amendment requires a one-time visual inspection to determine whether certain parts of the spring rod assemblies of the rudder servo controls are installed; and corrective actions, if necessary. This amendment is prompted by issuance of mandatory continuing airworthiness information by a foreign civil airworthiness authority. The actions specified by this AD are intended to prevent corrosion of the spring rod assemblies of the rudder servo controls, which could result in the jamming of the rudder servo controls and consequent reduced controllability of the airplane.

DATES: Effective March 9, 2000.

The incorporation by reference of certain publications listed in the regulations is approved by the Director of the Federal Register as of March 9, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A300, A310, and A300-600 series airplanes was published in the Federal Register on November 4, 1999 (64 FR 60138). That action proposed to require either replacement of the spring rod assemblies of the rudder servo controls with improved spring rod assemblies; or modification of the existing spring rod assemblies. For certain airplanes, that action proposed to require a one-time visual inspection to determine whether certain parts of the spring rod assemblies of the rudder servo controls are installed; and corrective actions, if necessary.

Interested persons have been afforded an opportunity to participate in the making of this amendment. No comments were submitted in response to the proposal or the FAA's determination of the cost to the public.

French Airworthiness Directive Revision

Since issuance of the proposed AD, the Direction Gónórale de l'Aviation Civile (DGAC), which is the airworthiness authority for France, has revised the corresponding French airworthiness directive. The DGAC issued 1999-240-288(B) R1, dated December 15, 1999, to provide operators with an exhaustive list of appropriate part numbers (P/N) for rudder servo control input spring rod assemblies. The FAA has reviewed this information and has determined that paragraphs (b)(1) and (b)(2) of the proposed AD should be revised to include an additional part number. These paragraphs specify acceptable spring rod assemblies as those having either P/N A2727086500400 or A2727086500600. However, P/N A2727114900000 also is acceptable for installation. Paragraphs (b)(1) and (b)(2) of the AD have been revised to include this P/N.

Conclusion

After careful review of the available data, the FAA has determined that air safety and the public interest require the adoption of the rule with the change described previously. The FAA has determined that this change will neither increase the economic burden on any operator nor increase the scope of the AD.

Cost Impact

The FAA estimates that 156 airplanes of U.S. registry will be affected by this AD.

If an operator elects to replace the spring rod assemblies: It will take approximately 4 work hours per airplane to accomplish the replacement, at an average labor rate of $60 per work hour. Required parts will cost approximately $3,720 per airplane. Based on these figures, the cost impact of the replacement on U.S. operators is estimated to be $3,960 per airplane.

If an operator elects to modify the spring rod assemblies: It will take approximately 7 work hours per airplane to accomplish the modification, at an average labor rate of $60 per work hour. Required parts will cost approximately $294 per airplane. Based on these figures, the cost impact of the modification on U.S. operators is estimated to be $714 per airplane.

If an operator is required to accomplish the one-time inspection: It will take approximately 1 work hour per airplane to accomplish that inspection, at an average labor rate of $60 per work hour. Based on these figures, the cost impact of the inspection on U.S. operators is estimated to be $60 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) Is not a “significant rule” under DOT Regulatory Policies and Procedures (44 FR 11034, February 26, 1979); and (3) Will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-02-24 Airbus Industrie: Amendment 39-11542. Docket 99-NM-247-AD.

Applicability: Model A300, A310, and A300-600 series airplanes; certificated in any category; except those airplanes on which Airbus Modification 10438 has been installed, or on which Airbus Service Bulletin A300-27-0182, Revision 2, A300-27-6023, Revision 2, or A300-27-2065, Revision 2, each dated June 30, 1999, has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent corrosion of the spring rod assemblies of the rudder servo controls, which could result in the jamming of the rudder servo controls and consequent reduced controllability of the airplane, accomplish the following:

(a) For airplanes on which the spring rod assemblies of the rudder servo controls have not been modified in accordance with Airbus Service Bulletin A300-27-182, dated March 16, 1995, or Revision 1, dated November 21, 1996 (for Model A300 series airplanes); A310-27-2065, dated March 16, 1995, or Revision 1, dated March 10, 1997 (for Model A310 series airplanes); or A300-27-6023, dated March 16, 1995, or Revision 1, dated March 10, 1997 (for Model A300-600 series airplanes); as applicable; as of the effective date of this AD: Within 1 year after the effective date of this AD, accomplish the actions specified in either paragraph (a)(1) or (a)(2) in accordance with Airbus Service Bulletin A300-27-182, Revision 2 (for Model A300 series airplanes); or A310-27-2065, Revision 2 (for Model A310 series airplanes); or A300-27-6023, Revision 2 (for Model A300-600 series airplanes); each dated June 30, 1999; as applicable.

(1) Replace the spring rod assemblies with improved spring rod assemblies; or

(2) Modify the existing spring rod assemblies and re-identify all modified spring rod assemblies.

(b) For airplanes on which the spring rod assemblies of the rudder servo controls have been modified in accordance with Airbus Service Bulletin A300-27-182, dated March 16, 1995, or Revision 1, dated November 21, 1996 (for Model A300 series airplanes); or A310-27-2065, dated March 16, 1995, or Revision 1, dated March 10, 1997 (for Model A310 series airplanes); or A300-27-6023, dated March 16, 1995, or Revision 1, dated March 10, 1997 (for Model A300-600 series airplanes); as applicable; as of the effective date of this AD: Within 1 year after the effective date of this AD, perform a one-time visual inspection to verify that all spring rod assemblies of the rudder servo controls have the same part numbers, in accordance with Airbus Service Bulletin A300-27-182, Revision 2 (for Model A300 series airplanes); or A310-27-2065, Revision 2 (for Model A310 series airplanes); or A300-27-6023, Revision 2 (for Model A300-600 series airplanes); each dated June 30, 1999; as applicable.

(1) If all three spring rod assemblies have P/N A2727086500400, A2727086500600, or A2727114900000, no further action is required by this AD.

(2) If any spring rod assembly has a P/N other than P/N A2727086500400, A2727086500600, or A2727114900000, prior to further flight, re-identify all spring rod assemblies to the P/N specified in the applicable service bulletin, in accordance with the applicable service bulletin.

(c) As of the effective date of this AD, no person shall install on any airplane a spring rod assembly having P/N A2727086500200.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with § 21.197 and 21.199 of the Federal Aviation Regulations (14 CFR 21.197 and 21.199) to operate the airplane to a location where the requirements of this AD can be accomplished.

Incorporation by Reference

(f) The actions shall be done in accordance with Airbus Service Bulletin A300-27-182, Revision 2, dated June 30, 1999; Airbus Service Bulletin A310-27-2065, Revision 2, dated June 30, 1999; or Airbus Service Bulletin A300-27-6023, Revision 2, dated June 30, 1999; as applicable. Airbus Service Bulletin A300-27-6023, Revision 2, dated June 30, 1999, contains the following list of effective pages:

Revision level page No. | Date shown on page | Shown on page
1-6, 8-12, 17 | 2 | June 30, 1999.
7, 13-16 | Original | March 16, 1995.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directives 1999-240-288(B), dated June 30, 1999, and 1999-240-288(B) R1, dated December 15, 1999.

(g) This amendment becomes effective on March 9, 2000.

Issued in Renton, Washington, on January 25, 2000.
Donald L. Riggin,
Acting Manager, Transport Airplane Directorate, Aircraft Certification Service.

[FR Doc. 00-2083 Filed 2-2-00; 8:45 am]

BILLING CODE 4910-13-U